DEPARTMENT OF DEFENSE

Department of the Army; Corps of Engineers

Notice of Availability for the Draft Environmental Impact Statement for Hemet/San Jacinto Integrated Recharge and Recovery Project, Riverside County, CA

AGENCY: Department of the Army—U.S. Army Corps of Engineers, DoD.

ACTION: Notice of Availability.

SUMMARY: The U.S. Army Corps of Engineers, Los Angeles District (Regulatory Branch), in coordination with the Eastern Municipal Water District (EMWD), has completed a Draft Environmental Impact Statement (EIS) for the Hemet/San Jacinto Integrated Recharge and Recovery Project. EMWD requires authorization pursuant to Section 404 of the Clean Water Act for 53.1 acres of fill into waters of the U.S. A public hearing will be held at the Simpson Center (305 East Devonshire Avenue, Hemet, CA 92543) on September 19, 2006 from 5:30 to 6:30 p.m.

FOR FURTHER INFORMATION CONTACT: Questions or comments concerning the Draft EIS should be directed to Dr. Daniel P. Swenson, Regulatory Branch, U.S. Army Corps of Engineers, P.O. Box 532711, Los Angeles, CA, 90053, (213) 452-3414. Comments should be submitted no later than October 20, 2006.

SUPPLEMENTARY INFORMATION: None.

Mark Durham,
Chief, South Coast Section, Regulatory Branch.

[FR Doc. 06-7649 Filed 9-13-06; 8:45 am]

BILLING CODE 3710-KF-P